DEPARTMENT OF TRANSPORTATION

Federal Aviation Administration

14 CFR Parts 25, 91, 121, and 125

[Docket No. FAA-2024-2052; Amdt. Nos. 25-153, 91-377, 121-393, 125-76]

RIN 2120-AM00

Modernization of Passenger Information Requirements Relating to “No Smoking” Sign Illumination

AGENCY: Federal Aviation Administration (FAA), Department Of Transportation (DOT).

ACTION: Direct final rule; request for comments.

SUMMARY: The Federal Aviation Administration (FAA) is amending its regulations to allow aircraft to operate either with “No Smoking” signs continuously illuminated or with “No Smoking” signs a crewmember can turn on and off. Currently, crewmembers must be able to manually turn aircraft “No Smoking” signs on and off. However, the current regulations were drafted when the Department of Transportation (DOT) permitted smoking at times on commercial flights. These amendments bring FAA regulations into alignment with current practice for aircraft manufacturing and operations.

DATES: This direct final rule is effective October 22, 2024.

Submit comments on or before September 23, 2024. If the FAA receives an adverse comment, the FAA will advise the public by publishing a document in the Federal Register before the effective date of this direct final rule. That document may withdraw the direct final rule in whole or in part.

ADDRESSES: Send comments identified by docket number FAA-2024-2052 using any of the following methods:

• Federal eRulemaking Portal: Go to https://www.regulations.gov/ and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at (202) 493-2251.

Docket: Background documents or comments received may be read at https://www.regulations.gov/ at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Catherine Burnett, Flight Standards Implementation and Integration Group, Air Transportation Division, Federal Aviation Administration, 800 Independence Avenue SW, Washington, DC 20591; telephone (202) 267-8166; email Catherine.Burnett@faa.gov.

SUPPLEMENTARY INFORMATION:

I. Executive Summary

Currently, crewmembers must be able to manually turn aircraft “No Smoking” signs on and off. This requirement was implemented prior to the prohibition on smoking in passenger cabins during all phases of flight. As a general matter, there is no longer a need for the signs to indicate two different states of smoking permissibility because smoking is not typically permitted at any time on most transport category aircraft operated commercially in the United States. However, when smoking is permitted on aircraft, such as when they are operated privately, crewmembers still must be able to manually turn “No Smoking” signs on and off to inform passengers when it is acceptable to smoke. This direct final rule provides more flexibility by allowing “No Smoking” signs to be illuminated continuously. This direct final rule revises five sections of regulations that affect aircraft manufacturers and aircraft operators.

Aircraft manufacturers will benefit from relieving changes in title 14 of the Code of Federal Regulations (14 CFR) part 25. In addition, pilots and aircraft operators will benefit from relieving changes to regulations in parts 91, 121, and 125. The revisions to these five sections of the CFR will allow for “No Smoking” signs to be illuminated continuously without the requirement for a physical or software switch to be built into the aircraft at the factory or used by a crewmember during an aircraft operation. Specifically, the revision to part 25 imposes no new requirements on manufacturers; they may continue to make aircraft with manually operated “No Smoking” signs. However, as an alternative, the revision to part 25 allows aircraft on which the “No Smoking” signs remain illuminated continuously to receive type certification from the FAA without having to request relief from the current regulations. Similarly, with this direct final rule, operators will be able to operate aircraft where signs can either be manually operated by crewmembers or remain continuously illuminated.

The FAA has long recognized the incongruity between the prohibition on smoking in most commercial aircraft and the requirement for manufacturers to construct, and operators to operate, aircraft with “No Smoking” signs that can be turned on and off. For almost 30 years, the FAA has addressed this incongruity through equivalent level of safety (ELOS) findings ¹ and regulatory exemptions,² which allows aircraft to have “No Smoking” signs that are continuously illuminated during flight operations. This rule makes such ELOS findings and regulatory exemptions unnecessary. Manufacturers will be able to continue to manufacture, and pilots and operators will be able to continue to operate, aircraft with “No Smoking” signs that can be turned on and off or “No Smoking” signs that are illuminated continuously.

¹ An aircraft can be type certificated, despite apparent noncompliance with specific airworthiness provisions, if “any airworthiness provisions not complied with are compensated for by factors that provide an equivalent level of safety.” 14 CFR 21.21(b)(1). These equivalent level of safety (ELOS) findings, also known as equivalent safety findings (ESF), can be described in issue papers. Issue papers are a structured means to address certain issues in the certification and validation processes of aircraft and aircraft parts. Issue papers establish a vehicle for formal communication between the FAA and the applicant, and track resolution of the subject issues. FAA Advisory Circular (AC) 20-166.

² A petition for exemption is a request to the FAA by an individual or entity asking for relief from the requirements of a current regulation. 14 CFR 11.15.

II. Direct Final Rule

An agency typically uses direct final rulemaking when it anticipates that a proposed rule is unnecessary as the rule is considered noncontroversial.³ The FAA has determined that this rule is suitable for direct final rulemaking and that publication of a notice of proposed rulemaking (NPRM) is unnecessary because the rule merely aligns minor regulations of lighted “No Smoking” signs with the current prohibition on smoking. The rule imposes no new duties on regulated entities and will have little to no practical effect on the American flying public.

³ 14 CFR 11.13. See also U.S. Department of Transportation (DOT) Order 2100.6A, paragraph 10.j(1)(b) (saying proposed rules are not required for “[r]ules for which notice and comment is unnecessary to inform the rulemaking, such as rules correcting de minimis technical or clerical errors or rules addressing other minor and insubstantial matters, provided the reasons to forgo public comment are explained in the preamble to the final rule.”)

Section 553(b)(3)(B) of the Administrative Procedure Act (APA) (5 U.S.C. 551 et seq.) authorizes agencies to dispense with prior notice and comment for rules when the agency for “good cause” finds that those procedures are “impracticable, unnecessary, or contrary to the public interest.” Under this section, an agency, upon finding good cause, may issue a final rule without first publishing a proposed rule. The FAA finds that publication of an NPRM would be “unnecessary” ⁴ for this action. A proposed rule is unnecessary for “the issuance of a minor rule in which the public is not particularly interested.” ⁵ As noted previously, this rule will have no direct impact on the American flying public; smoking has been generally banned on flights since 2000.⁶ A direct final rule is also appropriate because this is a largely technical change with no detrimental effects on regulated entities.⁷ This rule imposes no new duties on manufacturers and operators. It explicitly allows manufacturers to continue to make, and operators to continue to operate, aircraft with manually operated “No Smoking” signs, but it no longer requires them to do so. Finally, this rulemaking is largely technical in that it codifies practices already widely permitted by exemption.

⁴ 5 U.S.C. 553(b)(B).

⁵ Attorney General's Manual on the Administrative Procedure Act (1947), 31. See also Mack Trucks, Inc. v. E.P.A., 682 F.3d 87, 94 (D.C. Cir. 2012) (quoting Util. Solid Waste Activities Grp. v. E.P.A., 236 F.3d 749, 755 (D.C. Cir. 2001), which cites, in turn, the Attorney General's Manual.).

⁶ Prohibition of Smoking on Scheduled Passenger Flights final rule, 65 FR 36776 (Jun. 9, 2000).

⁷ Nat'l Helium Corp. v. Fed. Energy Admin., 569 F.2d 1137, 1146 (Temp. Emer. Ct. App. 1977). (“Because the change was largely technical and did not substantively alter the existing regulatory framework . . . , and because there was ultimately no detrimental impact on the rights of the parties regulated, prior notice and opportunity to comment were `unnecessary'.”)

The FAA is providing notice to and seeking comment from the public prior to effectuating these changes.⁸ If the FAA receives an adverse comment during the comment period, the FAA will advise the public by publishing a document in the Federal Register before the effective date of the direct final rule, in accordance with part 11. If the FAA withdraws a direct final rule because of an adverse comment, the FAA may incorporate the commenter's recommendation into another direct final rule or may publish an NPRM.⁹

⁸ Adoption of Recommendations, 60 FR 43109, 43110-43111 (Aug. 18, 1995) (describing Administrative Conference of the United States, Recommendation 95-4, Procedures for Noncontroversial and Expedited Rulemaking).

⁹ 14 CFR 11.31(c).

For purposes of this direct final rule, an adverse comment is one that explains (1) why the rule is inappropriate, including challenges to the rule's underlying premise or approach; or (2) why the direct final rule will be ineffective or unacceptable without a change.¹⁰ In determining whether an adverse comment necessitates withdrawal of this direct final rule, the FAA will consider whether the comment raises an issue serious enough to warrant a substantive response had it been submitted in response to publication of an NPRM. A comment recommending additional provisions to the rule will not be considered adverse unless the comment explains how this direct final rule would be ineffective without the added provisions.¹¹

¹⁰ 14 CFR 11.31(a).

¹¹ 14 CFR 11.31(a)(1).

Under the direct final rule process, the FAA does not consider a comment to be adverse if that comment recommends an amendment to a different regulation beyond the regulations in the direct final rule at issue. The FAA also does not consider a frivolous or insubstantial comment to be adverse.¹²

¹² 14 CFR 11.31(a)(1) and (2).

If the FAA receives no adverse comments, the FAA will publish a confirmation notice in the Federal Register, generally within 15 days after the comment period closes. The confirmation notice announces the effective date of the rule.¹³

¹³ 14 CFR 11.31(b).

III. Authority for This Rulemaking

The FAA's authority to issue rules on aviation safety is found in title 49 of the United States Code (U.S.C.). Subtitle I, section 106, describes the authority of the FAA Administrator. Subtitle VII, Aviation Programs, describes in more detail the scope of the agency's authority. Under section 44701, the FAA is charged with promoting safe flight of civil aircraft in air commerce by prescribing regulations for practices, methods, and procedures the Administrator finds necessary for safety in air commerce.

This rulemaking is promulgated under 49 U.S.C. 41706, which prohibits smoking on passenger flights and grants the FAA authority to “prescribe such regulations as are necessary” to enforce that prohibition. Regulations requiring “No Smoking” signs and prescribing specific standards for required “No Smoking” signs fall within that grant of authority. This rulemaking, which removes a previously required standard for the construction of “No Smoking” signs, also falls within that authority.

This rulemaking is also promulgated under the authority granted to the Administrator in 49 U.S.C. subtitle VII, part A, subpart iii, chapter 401, section 40113 (prescribing general authority of the Administrator of the FAA with respect to aviation safety duties and powers to prescribe regulations) and subpart III, chapter 447, sections 44701 (general authority of the Administrator to promote safe flight of civil aircraft in air commerce by prescribing regulations and setting minimum standards for other practices, methods, and procedures necessary for safety in air commerce and national security), 44702 (general authority of the Administrator to issue certificates, including airworthiness certificates), 44704 (general authority of the Administrator to prescribe regulations for the issuance of certificates), and 44705 (authority to issue air carrier operating certificates). These authorities provide the means by which the Administrator enforces the prohibition on smoking. As the Administrator has broad discretion over certification and aviation safety, the Administrator has broad discretion over how a ban on smoking is enforced.

IV. Discussion of the Direct Final Rule

A. History

In 1973, the Civil Aeronautics Board (CAB) required the separation of smoking and non-smoking passengers onboard flights.¹⁴ In subsequent years, the CAB and then the Office of the Secretary (OST) of the DOT, to which CAB functions were transferred, revised the rule several times, each time further limiting smoking.¹⁵ In a final rule that established 14 CFR part 125, the FAA confirmed that smoking must be prohibited during takeoff and landing.¹⁶ The FAA further limited smoking on aircraft in 1988 with the promulgation of 14 CFR 121.317,¹⁷ which limited smoking during takeoff and landing along with a smoking ban on flights with a duration of two hours or less. The purpose of the “No Smoking” signs during this time was to inform occupants in the cabin when smoking was otherwise permitted. Furthermore, in 1990, the FAA published a final rule that amended § 25.791 to consolidate the passenger-required placards such as the “Fasten Seat Belt” and “No Smoking” signs in one easy-to-reference section for aircraft manufacturers.¹⁸ The amendment to § 25.791 also consolidated the requirement for crew to be able to turn on and off the “No Smoking” signs to apply to aircraft on which smoking was prohibited as well as aircraft on which smoking was allowed.¹⁹ Prior to the consolidation, aircraft on which smoking was prohibited only required a placard rather than an operable sign.

¹⁴ Provision of Designated “No-Smoking” Areas Aboard Aircraft Operated By Certificated Air Carriers final rule, 38 FR 12207 (May 10, 1973).

¹⁵ Smoking Aboard Aircraft final rule, 65 FR 36772 (Jun. 9, 2000).

¹⁶ Certification and Operation Rules for Certain Large Airplanes; Establishment of Part and Miscellaneous Amendments to Existing Regulations final rule, 45 FR 67214 (Oct. 9, 1980), at 67246.

¹⁷ Smoking Aboard Aircraft final rule 52 FR 12358 (Apr. 13, 1988), at 12361-12362.

¹⁸ Special Review: Transport Category Airplane Airworthiness Standards final rule, 55 FR 29756 (Jul. 20, 1990) at 29764.

¹⁹ Id., 29780.

In 1992, the FAA promulgated regulations requiring “No Smoking” signs to be on when an airplane is taxiing.²⁰ These clarifying amendments also harmonized requirements across CFR sections for passengers to obey the lighted “No Smoking” signs. Finally, in response to a Congressional mandate, the FAA required all domestic and international air carriers to prohibit smoking on their aircraft.²¹ DOT issued a final rule the same day also updating its regulations to implement the statutory ban.²² After the issuance of this regulation in 2000, practically all commercial scheduled flights have banned smoking for the entirety of the flight. The FAA acknowledges that not all transport-category aircraft certificated under part 25 are operated solely in the United States, and as such, they are not required to comply with DOT and the FAA regulations pertaining to smoking. However, by the time DOT and the FAA banned smoking in 2000, nearly all U.S. international flights were already smoke-free, due to both governmental regulation and voluntary action by airlines, and most commercial airline flights operated in countries other than the U.S. were also smoke-free.

²⁰ Miscellaneous Operational Amendments final rule, 57 FR 42662 (Sep. 15, 1992), at 42665.

²¹ Prohibition of Smoking on Scheduled Passenger Flights final rule, 65 FR 36776 (Jun. 9, 2000).

²² Smoking Aboard Aircraft final rule, 65 FR 36772 (Jun. 9, 2000).

Today, aircraft manufactured to the airworthiness standards of § 25.791(a) must have “No Smoking” signs that a member of the flightcrew can turn on and off, and that are legible while turned on to each person seated in the cabin under all cabin lighting configurations. Additionally, pilots and crewmembers who conduct flights operated under §§ 91.517(a), 121.317(a), 125.207(a)(3), or 125.217(a) are required to be able to turn on and off the “No Smoking” signs on an aircraft with either a software or hardware action.

B. Addressing Requests for Regulatory Relief

In 1992, in response to smoking becoming prohibited on most scheduled flight segments in the United States, the FAA coordinated with an aircraft manufacturer to develop an ELOS finding in accordance with § 21.21(b)(1) addressing lighted “No Smoking” signs. The manufacturer requested that the FAA allow it to install lighted “No Smoking” signs that remain continuously illuminated on specific aircraft models. The FAA concluded that continuously lighted “No Smoking” signs provide an ELOS to “No Smoking” placards on the requested aircraft. The FAA has since developed four other ELOS findings in accordance with § 21.21(b)(1) with manufacturers to allow the installation of “No Smoking” signs that are continuously illuminated on other models of aircraft. Even with an ELOS finding in accordance with § 21.21(b)(1), aircraft operators who elect to operate aircraft with the continuously illuminated “No Smoking” signs then need to petition for an exemption from §§ 91.517(a), 121.317(a), 125.207(a)(3), or 125.217(a), as applicable, to allow flight operations with the continuously illuminated “No Smoking” signs.

Delta Air Lines, Inc. (Delta) became the first aircraft operator to request an exemption from the then-current regulations in 1995.²³ Delta sought relief from the requirement that a crewmember be able to operate a switch to turn the “No Smoking” sign on and off. The FAA granted Delta's petition for exemption from both §§ 121.317(a) and 25.791(a), and dozens of petitions for exemption from other aircraft manufacturers and aircraft operators for relief from the FAA's “No Smoking” signs regulations followed. There are currently 44 active exemptions regarding these “No Smoking” sign regulations.

²³ FAA Exemption No. 6034.

Currently, the FAA requires aircraft manufacturers to show that the aircraft meets an ELOS findings in accordance with § 21.21(b)(1) before it will certify aircraft with continuously illuminated “No Smoking” signs. Aircraft operators require exemptions to operate such aircraft. This rulemaking revises the “No Smoking” sign regulations so that all manufacturers and operators will no longer need to expend resources to receive regulatory relief through ELOS findings and exemptions. Since continuously illuminated signs generally provide an ELOS to placards and operable signs, there is no benefit to continuing to require manufacturers and operators to prove this in each individual case.

C. Revisions to Requirements of Aircraft “No Smoking” Signs

The FAA is revising its regulations to provide an additional option regarding the manufacture and operation of “No Smoking” signs and placards on aircraft. Specifically, this rulemaking permits aircraft manufacturers to manufacture aircraft with lighted “No Smoking” signs that are continuously illuminated and cannot be turned off and permits crews to operate aircraft with “No Smoking” signs that remain continuously illuminated. No new requirements are imposed; for example, manufacturers may still produce aircraft with placards stating smoking is prohibited. Since air carriers may not allow smoking during most operations conducted in the United States, outdated language stating “If smoking is to be allowed . . .” has been removed.

To address the current requirement that aircraft be manufactured only with “No Smoking” signs that can be turned on and off, the FAA is revising § 25.791(a) to permit an aircraft manufacturer to manufacture an aircraft with “No Smoking” signs that can be turned on and off, with placards stating smoking is prohibited, or with lighted “No Smoking” signs that are continuously illuminated. Revised sections 91.517(a), 121.317(a), 125.207(a)(3), and 125.217(a) will allow operators to continuously illuminate “No Smoking” signs or, as before, to continue operating aircraft with “No Smoking” signs that can be controlled by a crewmember.

With these changes, the FAA is providing an alternative to existing regulatory requirements and not creating any new requirements. Even though smoking is prohibited, there are still passengers who may wish to smoke despite the prohibition, and the FAA continues to believe the sign or placard requirement provides a continuous reminder to passengers of the ban on smoking.

D. Regulations Not Revised as Part of This Rulemaking

Section 25.791(a), as it is written currently, does not differentiate between requirements for the construction of “No Smoking” signs on aircraft where smoking is to be prohibited and on aircraft where smoking is to be allowed. However, prior to publication of the Revision of Airworthiness Standards for Normal, Utility, Acrobatic, and Commuter Category Airplanes final rule,²⁴ §§ 23.853, 27.853, and 29.853, the corresponding regulations addressing “No Smoking” signs in current parts 23, 27, and 29, were written such that the requirement for “No Smoking” signs to be constructed so that the crew can turn them on and off only applied to aircraft where smoking is to be allowed. Parts 23, 27, and 29 aircraft on which smoking is prohibited require only a placard stating so. Thus, the FAA is not revising parts 23, 27, and 29 in this direct final rule.

²⁴ Revision of Airworthiness Standards for Normal, Utility, Acrobatic, and Commuter Category Airplanes final rule, 81 FR 96572 at 96689 (Dec. 30, 2016).

Similarly, the FAA is not revising regulations in part 135 related to “No Smoking” signs as these regulations do not include the prescriptive requirements found in parts 91, 121, and 125 related to crew operation of “No Smoking” signs. Finally, this rulemaking action does not revise any placarding requirements in part 25.

V. Regulatory Notices and Analyses

Federal agencies consider the impacts of regulatory actions under a variety of executive orders and other requirements. First, Executive Order 12866 and Executive Order 13563, as amended by Executive Order 14094 (“Modernizing Regulatory Review”), direct that each Federal agency shall propose or adopt a regulation only upon a reasoned determination that the benefits of the intended regulation justify the costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. Fourth, the Unfunded Mandates Reform Act of 1995 (Pub. L. 104-4) requires agencies to prepare a written assessment of the costs, benefits, and other effects of proposed or final rules that include a Federal mandate that may result in the expenditure by State, local, and tribal governments, in the aggregate, or by the private sector, of $100 million or more (adjusted annually for inflation) in any one year. The current threshold after adjustment for inflation is $183 million using the most current (2023) Implicit Price Deflator for the Gross Domestic Product. This portion of the preamble presents the FAA's analysis of the economic impacts of this rule.

In conducting these analyses, the FAA has determined that this direct final rule: will not exceed the economic impact threshold for a “significant regulatory action” set in section 3(f)(1) of Executive Order 12866, as amended by Executive Order 14094; will not have a significant economic impact on a substantial number of small entities; will not create unnecessary obstacles to the foreign commerce of the United States; and will not impose an unfunded mandate on State, local, or tribal governments, or on the private sector.

A. Regulatory Evaluation

On June 4, 2000, the FAA banned smoking for all U.S. scheduled flights. At the time of the ban, several rules required “No Smoking” signs to be constructed so that they were “operable” (14 CFR 25.171) or could be turned on and off (14 CFR 91.571, 121.317, 125.207, and 125.217) by a crewmember by means of an on-off switch.

As noted previously, the FAA recognizes the incongruity of these rules given the industry-wide ban on smoking. By means of ELOS findings, part 25 manufacturers have been allowed to hardwire “No Smoking” signs on existing in-service aircraft and, for newly manufactured aircraft, have been allowed to construct “No Smoking” signs that were permanently and continuously illuminated. Correspondingly, operators have been allowed to operate such aircraft after they receive the authority to do so through an exemption issued by the FAA.

Over a period of nearly 30 years, the FAA has made several ELOS findings and issued 57 exemptions.²⁵ ELOS findings and the exemption process are both time-consuming and burdensome for manufacturers and operators, who must justify their requests for this regulatory relief, and for the FAA, which must evaluate and coordinate these regulatory requests. The burden of the exemptions process has been exacerbated since the exemptions, until recently, were generally issued for a two-year period only and thus had to be regularly renewed.

²⁵ The FAA granted exemptions to Delta Airlines in 1995 (FAA Exemption No. 6034) and to American Airlines in 1999 (FAA Exemption No. 6853), both of which established an airline-wide ban on smoking prior to the FAA industry-wide ban in 2000.

This direct final rule provides permanent and universal regulatory relief previously granted to specific parties through ELOS findings and exemptions. Manufacturers are now allowed to produce aircraft with “No Smoking” signs that can be illuminated continuously, and operators are allowed to operate them without petitioning the FAA. For manufacturers, operators, and the FAA, this rulemaking eliminates unnecessary costs of time and paperwork associated with ELOS findings and exemptions.

B. Regulatory Flexibility Act

The Regulatory Flexibility Act (RFA) of 1980, (5 U.S.C. 601-612), as amended by the Small Business Regulatory Enforcement Fairness Act of 1996 (Pub. L. 104-121) and the Small Business Jobs Act of 2010 (Pub. L. 111-240), requires Federal agencies to consider the effects of regulatory action on small business and other small entities and to minimize any significant economic impact. The term “small entities” comprises small businesses and not-for-profit organizations that are independently owned and operated and are not dominant in their fields, and governmental jurisdictions with populations of less than 50,000.

As described in the Regulatory Evaluation, this rule relieves aircraft manufacturers from the need to request ELOS findings from the FAA and operators from the need to petition the FAA to allow “No Smoking” signs to be continuously illuminated. Further, if an agency determines that a rulemaking will not result in a significant economic impact on a substantial number of small entities, the head of the agency may so certify under section 605(b) of the RFA. Therefore, based on the foregoing, the FAA Administrator certifies that this direct final rule will not have a significant economic impact on a substantial number of small entities.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards.

The FAA has assessed the potential effect of this direct final rule and determined that it ensures the safety of the American public and does not exclude imports that meet this objective. The rule relieves restrictions on “No Smoking” signs for both domestic and foreign manufacturers and operators and so does not create unnecessary obstacles to foreign commerce. As a result, this direct final rule is a safety rule consistent with the Trade Agreements Act.

D. Unfunded Mandates Assessment

The Unfunded Mandates Reform Act of 1995 (2 U.S.C. 1531-1538) governs the issuance of Federal regulations that require unfunded mandates. An unfunded mandate is a regulation that requires a State, local, or tribal governments, or the private sector to incur direct costs without the Federal government having first provided the funds to pay those costs. This rulemaking creates no new requirements and so imposes no direct costs. Therefore, the FAA has determined that the requirements of the Unfunded Mandates Reform Act do not apply.

E. Paperwork Reduction Act

The Paperwork Reduction Act of 1995 (44 U.S.C. 3507(d)) requires that the FAA consider the impact of paperwork and other information collection burdens imposed on the public. The FAA has determined that there will be no new requirement for information collection associated with this direct final rule.

F. International Compatibility and Cooperation

In keeping with U.S. obligations under the Convention on International Civil Aviation, it is FAA policy to conform to International Civil Aviation Organization (ICAO) Standards and Recommended Practices to the maximum extent practicable. The FAA has reviewed the corresponding ICAO Standards and Recommended Practices and has identified no differences with these regulations.

G. Environmental Analysis

FAA Order 1050.1F identifies FAA actions that are categorically excluded from preparation of an environmental assessment or environmental impact statement under the National Environmental Policy Act (NEPA) in the absence of extraordinary circumstances. The FAA has determined this rulemaking action qualifies for the categorical exclusion identified in paragraph 5-6.6f for regulations and involves no extraordinary circumstances.

VI. Executive Order Determinations

A. Executive Order 13132, Federalism

The FAA has analyzed this direct final rule under the principles and criteria of Executive Order 13132, Federalism. The FAA has determined that this action will not have a substantial direct effect on the States, the relationship between the Federal Government and the States, or on the distribution of power and responsibilities among the various levels of government and, therefore, will not have federalism implications.

B. Executive Order 13211, Regulations That Significantly Affect Energy Supply, Distribution, or Use

The FAA analyzed this direct final rule under Executive Order 13211, Actions Concerning Regulations that Significantly Affect Energy Supply, Distribution, or Use. The FAA has determined that it is not a “significant energy action” under the executive order and is not likely to have a significant adverse effect on the supply, distribution, or use of energy.

C. Executive Order 13609, Promoting International Regulatory Cooperation

Executive Order 13609, Promoting International Regulatory Cooperation, promotes international regulatory cooperation to meet shared challenges involving health, safety, labor, security, environmental, and other issues and to reduce, eliminate, or prevent unnecessary differences in regulatory requirements. The FAA has analyzed this action under the policies and agency responsibilities of Executive Order 13609 and has determined that this action will have no effect on international regulatory cooperation.

VII. Additional Information

A. Comments Invited

The FAA invites interested persons to participate in this rulemaking by submitting written comments, data, or views. The most helpful comments reference a specific portion of the rule, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this rulemaking. Before acting on this rulemaking, the FAA will consider all comments it receives on or before the closing date for comments. The FAA will consider comments filed after the comment period has closed if it is possible to do so without incurring expense or delay. The FAA may change this rule in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

B. Confidential Business Information

Confidential Business Information (CBI) is commercial or financial information that is both customarily and actually treated as private by its owner. Under the Freedom of Information Act (FOIA) (5 U.S.C. 552), CBI is exempt from public disclosure. If your comments responsive to this direct final rule contain commercial or financial information that is customarily treated as private, that you actually treat as private, and that is relevant or responsive to this direct final rule, it is important that you clearly designate the submitted comments as CBI. Please mark each page of your submission containing CBI as “PROPIN.” The FAA will treat such marked submissions as confidential under the FOIA, and they will not be placed in the public docket of this direct final rule. Submissions containing CBI should be sent to the person in the FOR FURTHER INFORMATION CONTACT section of this document. Any commentary that the FAA receives that is not specifically designated as CBI will be placed in the public docket for this rulemaking.

C. Electronic Access and Filing

A copy of this direct final rule, all comments received, any confirmation document, and all background material may be viewed online at https://www.regulations.gov using the docket number listed above. A copy of this direct final rule will be placed in the docket. Electronic retrieval help and guidelines are available on the website. It is available 24 hours each day, 365 days each year. An electronic copy of this document may also be downloaded from the Office of the Federal Register's website at https://www.federalregister.gov and the Government Publishing Office's website at https://www.govinfo.gov. A copy may also be found on the FAA's Regulations and Policies website at https://www.faa.gov/regulations_policies.

Copies may also be obtained by sending a request to the Federal Aviation Administration, Office of Rulemaking, ARM-1, 800 Independence Avenue SW, Washington, DC 20591, or by calling (202) 267-9677. Commenters must identify the docket or amendment number of this rulemaking.

All documents the FAA considered in developing this direct final rule, including economic analyses and technical reports, may be accessed in the electronic docket for this rulemaking.

D. Small Business Regulatory Enforcement Fairness Act

The Small Business Regulatory Enforcement Fairness Act (SBREFA) of 1996 requires the FAA to comply with small entity requests for information or advice about compliance with statutes and regulations within its jurisdiction. A small entity with questions regarding this document may contact its local FAA official or the person listed under the FOR FURTHER INFORMATION CONTACT heading at the beginning of the preamble. To find out more about SBREFA on the internet, visit https://www.faa.gov/regulations_policies/rulemaking/sbre_act/.

List of Subjects

14 CFR Part 25

Aircraft, Aviation safety.

14 CFR Part 91

Aircraft, Airmen, Aviation safety, Air carriers, Air taxis, Charter flights.

14 CFR Part 121

Air carriers, Aircraft, Airmen, Aviation safety, Charter flights, Safety.

14 CFR Part 125

Aircraft, Airmen, Aviation safety.

The Amendment

In consideration of the foregoing, the Federal Aviation Administration amends chapter I of title 14, Code of Federal Regulations as follows:

PART 25—AIRWORTHINESS STANDARDS: TRANSPORT CATEGORY AIRPLANES

1. The authority citation for part 25 continues to read as follows:

Authority: 49 U.S.C. 106(f), 106(g), 40113, 44701, 44702 and 44704; Pub. L. 115-254, 132 Stat 3281 (49 U.S.C. 44903 note).

2. Amend § 25.791 by revising paragraph (a) to read as follows:

§ 25.791 Passenger information signs and placards.

(a) Regarding “No Smoking” signs and placards:

(1) There must be at least one placard, or lighted sign, stating if smoking is prohibited. The placard or lighted sign must be legible to each person seated in the cabin.

(2) Lighted “No Smoking” signs must either be operable by a member of the flightcrew or be illuminated continuously during airplane operations. Illuminated signs must be legible under all probable conditions of cabin illumination to each person seated in the cabin.

* * * * *

PART 91—GENERAL OPERATING AND FLIGHT RULES

3. The authority citation for part 91 continues to read as follows:

Authority: 49 U.S.C. 106(f), 106(g), 40101, 40103, 40105, 40113, 40120, 44101, 44111, 44701, 44704, 44709, 44711, 44712, 44715, 44716, 44717, 44722, 46306, 46315, 46316, 46504, 46506-46507, 47122, 47508, 47528-47531, 47534, Pub. L. 114-190, 130 Stat. 615 (49 U.S.C. 44703 note); articles 12 and 29 of the Convention on International Civil Aviation (61 Stat. 1180), (126 Stat. 11).

4. Amend § 91.517 by revising paragraph (a) to read as follows:

§ 91.517 Passenger information.

(a) Except as provided in paragraph (b) of this section, no person may operate an airplane carrying passengers unless it is equipped with signs that are visible to passengers and flight attendants to notify them when smoking is prohibited and when safety belts must be fastened.

(1) The signs that notify when safety belts must be fastened must be so constructed that the crew can turn them on and off.

(2) The signs that prohibit smoking and signs that notify when safety belts must be fastened must be illuminated during airplane movement on the surface, for each takeoff, for each landing, and when otherwise considered to be necessary by the pilot in command.

* * * * *

PART 121—OPERATING REQUIREMENTS: DOMESTIC, FLAG, AND SUPPLEMENTAL OPERATIONS

5. The authority citation for part 121 continues to read as follows:

Authority: 49 U.S.C. 106(f), 106(g), 40103, 40113, 40119, 41706, 42301 preceding note added by Pub. L. 112-95, sec. 412, 126 Stat. 89, 44101, 44701-44702, 44705, 44709-44711, 44713, 44716-44717, 44722, 44729, 44732; 46105; Pub. L. 111-216, 124 Stat. 2348 (49 U.S.C. 44701 note); Pub. L. 112-95, 126 Stat. 62 (49 U.S.C. 44732 note); Pub. L. 115-254, 132 Stat. 3186 (49 U.S.C. 44701 note).

6. Amend § 121.317 by revising paragraph (a) to read as follows:

§ 121.317 Passenger information requirements, smoking prohibitions, and additional seat belt requirements.

(a) Except as provided in paragraph (l) of this section, no person may operate an airplane unless it is equipped with passenger information signs that meet the requirements of § 25.791 of this chapter.

* * * * *

PART 125—CERTIFICATION AND OPERATIONS: AIRCRAFT HAVING A SEATING CAPACITY OF 20 OR MORE PASSENGERS OR A MAXIMUM PAYLOAD CAPACITY OF 6,000 POUNDS OR MORE; AND RULES GOVERNING PERSONS ON BOARD SUCH AIRCRAFT

7. The authority citation for part 125 continues to read as follows:

Authority: 49 U.S.C. 106(f), 106(g), 40113, 44701-44702, 44705, 44710-44711, 44713, 44716-44717, 44722.

8. Amend § 125.207 by revising paragraph (a)(3) to read as follows:

§ 125.207 Emergency equipment requirements.

(a) * * *

(3) Signs that meet the following requirements:

(i) Signs that are visible to all occupants to notify them when safety belts should be fastened. These signs must be so constructed that they can be turned on and off by a crewmember. They must be turned on for each takeoff and each landing and when otherwise considered to be necessary by the pilot in command.

(ii) Signs that are visible to all occupants to notify them when smoking is prohibited. These signs must be turned on for each takeoff and each landing and when otherwise considered to be necessary by the pilot in command.

* * * * *

9. Amend § 125.217 by revising paragraph (a) to read as follows:

§ 125.217 Passenger information.

(a) Except as provided in paragraph (b) of this section, no person may operate an airplane carrying passengers unless it is equipped with signs that meet the requirements of § 25.791 of this chapter and that are visible to passengers and flight attendants to notify them when smoking is prohibited and when safety belts must be fastened.

(1) The signs that notify when safety belts must be fastened must be so constructed that the crew can turn them on and off.

(2) The signs that prohibit smoking and signs that notify when safety belts must be fastened must be illuminated during airplane movement on the surface, for each takeoff, for each landing, and when otherwise considered to be necessary by the pilot in command.

* * * * *

Issued under authority provided by 49 U.S.C. 106(f), 44701(a), and 41706(e) in Washington, DC.
Michael Gordon Whitaker,
Administrator.

[FR Doc. 2024-18602 Filed 8-22-24; 8:45 am]

BILLING CODE 4910-13-P